INTERNATIONAL TRADE COMMISSION

[Investigation No. 337-TA-577]

In the Matter of Certain Wireless Communications Equipment, Articles Therein, and Products Containing the Same; Notice of Commission Decision Not To Review an Initial Determination Terminating the Investigation Based on Settlement

AGENCY: U.S. International Trade Commission.

ACTION: Notice.

SUMMARY: Notice is hereby given that the U.S. International Trade Commission has determined not to review an initial determination (“ID”) (Order No. 59) issued by the presiding administrative law judge (“ALJ”) terminating the above-captioned investigation based on a settlement agreement.

FOR FURTHER INFORMATION CONTACT: Paul M. Bartkowski, Esq., Office of the General Counsel, U.S. International Trade Commission, 500 E Street, SW., Washington, DC 20436, telephone (202) 708-5432. Copies of non-confidential documents filed in connection with this investigation are or will be available for inspection during official business hours (8:45 a.m. to 5:15 p.m.) in the Office of the Secretary, U.S. International Trade Commission, 500 E Street, SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: This investigation was instituted on June 29, 2006, based on a complaint filed by Samsung Telecommunications America, LLP and Samsung Electronics Co., Ltd. (“Complainants”). The complaint alleged violations of section 337 of the Tariff Act of 1930 (19 U.S.C. 1337) in the importation into the United States and the sale of certain wireless communications equipment, articles therein, and products containing the same by reason of infringement of certain claims of U.S. Patent Nos. 6,598,202; 6,882,636; 6,154,652; 6,920,331; 6,421,353; 6,920,602; and 6,928,604. The complaint named four respondents: Ericsson, Inc.; Telefonaktiebolaget LM Ericsson; Sony Ericsson Mobile Communications AB; and Sony Ericsson Mobile Communications (USA) Inc. (“Respondents”).

On August 9, 2007, the presiding administrative law judge issued the subject ID (Order No. 59) granting a joint motion by Complainants and Respondents to terminate the investigation based upon a signed patent license agreement between the private parties. No petitions for review of the ID were filed. The Commission has determined not to review the ID.

The authority for the Commission's determination is contained in section 337 of the Tariff Act of 1930, as amended (19 U.S.C. 1337), and in section 210.42 of the Commission's Rules of Practice and Procedure (19 CFR 210.42).

Issued: August 29, 2007.
By order of the Commission.
Marilyn R. Abbott,
Secretary to the Commission.

[FR Doc. E7-17464 Filed 9-4-07; 8:45 am]

BILLING CODE 7020-02-P